DEPARTMENT OF THE TREASURY

Financial Crimes Enforcement Network; Proposed Collection; Comment Request; Renewal without Change of the FinCEN Suspicious Activity Reports Currently Approved Electronic Data Fields

AGENCY: Financial Crimes Enforcement Network (“FinCEN”), Treasury.

ACTION: Notice and request for comments.

SUMMARY: FinCEN is proposing to renew without change the OMB-approved list of current data fields within the database that are required to support the FinCEN Suspicious Activity Report (“SAR”) filings by financial institutions required to file such reports under the Bank Secrecy Act (“BSA”). This notice does not propose any new regulatory requirements or changes to the requirements related to suspicious activity reporting. The data fields reflect the filing requirement for all filers of SARs under the BSA. The FinCEN SAR is an e-filed dynamic and interactive report used by all BSA filing institutions to report suspicious financial activities to the Department of the Treasury. This request for comments covers 31 CFR 1020.320, 1021.320, 1022.320, 1023.320, 1024.320, 1025.320, and 1026.320. This request for comments is being made pursuant to the Paperwork Reduction Act of 1995, Public Law 104-13, 44 U.S.C. 3506(c)(2)(A).

DATES: Written comments are welcome and must be received on or before January 25, 2013.

ADDRESSES: Written comments should be submitted to: Regulatory Policy and Programs Division, Financial Crimes Enforcement Network, Department of the Treasury, P.O. Box 39, Vienna, Virginia 22183, “Attention: PRA Comments—SAR Database.” Comments also may be submitted by electronic mail to the following Internet address: regcomments@fincen.treas.gov, with the caption, “Attention: SAR Database” in the body of the text. Please submit by one method only.

Inspection of comments: Comments may be inspected, between 10 a.m. and 4 p.m., in the FinCEN reading room in Vienna, VA. Persons wishing to inspect the comments submitted must request an appointment with the Disclosure Officer by telephoning (703) 905-5034 (not a toll free call).

FOR FURTHER INFORMATION CONTACT: The FinCEN Regulatory Helpline at 800-949-2732, select option 7.

SUPPLEMENTARY INFORMATION: Title: FinCEN Suspicious Activity Report by Financial Institutions (see 31 CFR 1020.320, 1021.320, 1022.320, 1023.320, 1024.320, 1025.320, and 1026.320).¹

¹ This is a new title for this control number. The previously approved title was “Bank Secrecy Act Suspicious Activity Report (BSA-SAR).”

OMB Number: 1506-0065.²

² The SAR reporting requirements are currently covered under the following OMB Control numbers: 1506-0001 (Depository Institutions), 1506-0006 (Casinos and Card Clubs), 1506-0015 (Money Services Business), 1506-0019 (Securities and Futures Industries), 1506-0029 (Insurance Companies), and 1506-0061 (Residential Mortgage Lenders and Originators).

Form Number: FinCEN 111.

Abstract: The statute generally referred to as the “Bank Secrecy Act,” Titles I and II of Public Law 91-508, as amended, codified at 12 U.S.C. 1829b, 12 U.S.C. 1951-1959, and 31 U.S.C. 5311-5332, authorizes the Secretary of the Treasury, inter alia, to require financial institutions to keep records and file reports that are determined to have a high degree of usefulness in criminal, tax, and regulatory matters, or in the conduct of intelligence or counter-intelligence activities, to protect against international terrorism, and to implement anti-money laundering programs and compliance procedures.³ Regulations implementing Title II of the BSA appear at 31 CFR Chapter X. The authority of the Secretary to administer the BSA has been delegated to the Director of FinCEN.⁴

³ Language expanding the scope of the BSA to intelligence or counter-intelligence activities to protect against international terrorism was added by Section 358 of the Uniting and Strengthening America by Providing Appropriate Tools Required to Intercept and Obstruct Terrorism Act of 2001 (the USA PATRIOT Act), Public Law 107-56.

⁴ Treasury Order 180-01 (Sept. 26, 2002).

The information collected on the “report” is required to be provided pursuant to 31 U.S.C. 5318(g), as implemented by FinCEN regulations found at 31 CFR 1020.320, 1021.320, 1022.320, 1023.320, 1024.320, 1025.320, and 1026.320. The information collected under this requirement is made available to appropriate agencies and organizations as disclosed in FinCEN's Privacy Act System of Records Notice relating to BSA Reports.⁵

⁵ Department of the Treasury bureaus such as FinCEN renew their System of Records Notices every three years unless there is cause to amend them more frequently. FinCEN's System of Records Notice for BSA Reports System was most recently published at 77 FR 60014-60022 (October 1, 2012).

Current Action: FinCEN is renewing without change the OMB-approved electronic data elements currently supporting the reporting of suspicious financial activities. All filings (discrete, batch, and computer-to-computer) will be accessed through the BSA E-Filing system using current registration and login procedures.

Type of Review: Renewal without change of the electronic data elements of the FinCEN SAR that support the electronic filing of a dynamic SAR.

Affected public: Business or other for-profit and not-for-profit financial institutions.

Frequency: As required.

Estimated Reporting Burden: Average of 60 minutes per report and 60 minutes recordkeeping per filing. (The reporting burden of the regulations 31 CFR 1020.320, 1021.320, 1022.320, 1023.320, 1024.320, 1025.320, and 1026.320 is reflected in the burden for the form.)

Estimated Recordkeeping and Reporting Burden: 120 minutes (60 reporting and 60 minutes recordkeeping, for a total of 2 hours).⁶

⁶ FinCEN believes this burden estimate to be high, but insufficient collection data exist to reduce the number at this time.

Estimated number of respondents: 84,655 (Broker-Dealers, Casinos and Card Clubs, Depository Institutions, Future Commission Merchants, Insurance Companies, Money Services Businesses, Mutual Funds, and Non-Bank Residential Mortgage Lenders and Originators).

Estimated Total Annual Responses: 1,127,928.⁷

⁷ Numbers are based on actual 2012 filings as reported to the IRS Enterprise Computing Center-Detroit (EEC-D) as of 09/30/2012. This number reflects the projected total number of SAR filings for the year.

Estimated Total Annual Reporting and Recordkeeping Burden: 2,255,856 hours.

Note: A joint filing ⁸ will increase the burden to 90 minutes reporting and 60 minutes recordkeeping for a total of 2 and ½ hours per report.

⁸ Two separate financial institutions filing a single SAR. This type of filing constitutes less than 1% of total filings.

An agency may not conduct or sponsor, and a person is not required to respond to, a collection of information unless the collection of information displays a valid OMB control number. Records required to be retained under the BSA must be retained for five years.

Request for Comments: Comments submitted in response to this notice will be summarized and/or included in the request for OMB approval. All comments will become a matter of public record. Comments are invited on: (a) Whether the collection of information is necessary for the proper performance of the functions of the agency, including whether the information shall have practical utility; (b) the accuracy of the agencys estimate of the burden of the collection of information; (c) ways to enhance the quality, utility, and clarity of the information to be collected; (d) ways to minimize the burden of the collection of information on respondents, including through the use of automated collection techniques or other forms of information technology; and (e) estimates of capital or start-up costs and costs of operation, maintenance and purchase of services to provide information.

Dated: November 16, 2012.
Jennifer Shasky Calvery,
Director, Financial Crimes Enforcement Network.

[FR Doc. 2012-28520 Filed 11-23-12; 8:45 am]

BILLING CODE 4810-02-P